DEPARTMENT OF VETERANS AFFAIRS

38 CFR Part 17

RIN 2900-AR50

Emergent Suicide Care

Correction

In rule document 2023-00298 appearing on pages 2526-2537 in the issue of Tuesday, January 17, 2023, make the following correction:

On page 2526, in the second column, after the DATES heading, in the Effective date section, in the second line, “March 20, 2023” should read “January 17, 2023”.

[FR Doc. C1-2023-00298 Filed 1-18-23; 4:15 pm]

BILLING CODE 0099-10-P